DEPARTMENT OF COMMERCE

International Trade Administration

[A-583-844]

Narrow Woven Ribbons With Woven Selvedge From Taiwan: Final Results of Antidumping Duty Administrative Review; 2011-2012

AGENCY: Import Administration, International Trade Administration, Department of Commerce.

SUMMARY: On May 21, 2013, the Department of Commerce (the Department) published the preliminary results of the second administrative review of the antidumping duty order on narrow woven ribbons with woven selvedge (narrow woven ribbons) from Taiwan. The period of review (POR) is September 1, 2011, through August 31, 2012. We received no comments from interested parties. Therefore, the final results do not differ from the preliminary results and we continue to find that adverse facts available apply to the reviewed companies. The final weighted-average dumping margins for the reviewed companies are listed below in the section entitled “Final Results of the Review.”

DATES: Effective Date: August 19, 2013.

FOR FURTHER INFORMATION CONTACT: David Crespo or Elizabeth Eastwood, AD/CVD Operations, Office 2, Import Administration, International Trade Administration, U.S. Department of Commerce, 14th Street and Constitution Avenue NW., Washington, DC, 20230; telephone: (202) 482-3693, or (202) 482-3874.

SUPPLEMENTARY INFORMATION:

Background

On May 21, 2013, the Department published the preliminary results of the administrative review of the antidumping duty order on narrow woven ribbons from Taiwan.¹ We invited interested parties to comment on the Preliminary Results. No party submitted comments.

¹ See Narrow Woven Ribbons With Woven Selvedge From Taiwan: Preliminary Results of Antidumping Duty Administrative Review; 2011-2012, 78 FR 29703 (May 21, 2013) and accompanying Decision Memorandum (Preliminary Results).

The Department has conducted this administrative review in accordance with section 751(a) of the Tariff Act of 1930, as amended (the Act).

Scope of the Order

The merchandise subject to this order covers narrow woven ribbons with woven selvedge.² The merchandise subject to this order is classifiable under the Harmonized Tariff Schedule of the United States (HTSUS) statistical categories 5806.32.1020; 5806.32.1030; 5806.32.1050 and 5806.32.1060. Subject merchandise also may enter under subheadings 5806.31.00; 5806.32.20; 5806.39.20; 5806.39.30; 5808.90.00; 5810.91.00; 5810.99.90; 5903.90.10; 5903.90.25; 5907.00.60; and 5907.00.80 and under statistical categories 5806.32.1080; 5810.92.9080; 5903.90.3090; and 6307.90.9889. The HTSUS statistical categories and subheadings are provided for convenience and customs purposes; however, the written description of the merchandise covered by this order is dispositive.

² See Narrow Woven Ribbons With Woven Selvedge From Taiwan and the People's Republic of China: Amended Antidumping Duty Orders, 75 FR 56982 (Sept. 17, 2010) (Amended Order), for a complete description of the scope of the order.

Final Results of the Review

The Department made no changes to the rate assigned in the Preliminary Results. As a result of our review, we determine that the following dumping margins exist for the period September 1, 2011, through August 31, 2012:

Manufacturer/Exporter | Percent margin
Intercontinental Skyline | 137.20
Pacific Imports | 137.20

Assessment Rates

The Department shall determine, and U.S. Customs and Border Protection (CBP) shall assess, antidumping duties on all appropriate entries of subject merchandise in accordance with 19 CFR 351.212(b)(1). Accordingly, the Department will instruct CBP to assess antidumping duties on POR entries of the subject merchandise produced or exported by Intercontinental Skyline and Pacific Imports at the rate of 137.20 percent of the entered value.³

³ See 19 CFR 351.212(b)(1).

We intend to issue assessment instructions to CBP 15 days after the date of publication of these final results of this review.

Cash Deposit Requirements

The following cash deposit requirements will be effective upon publication of the notice of final results of administrative review for all shipments of narrow woven ribbons from Taiwan entered, or withdrawn from warehouse, for consumption on or after the date of publication as provided by section 751(a)(2) of the Act: (1) The cash deposit rates for Intercontinental Skyline and Pacific Imports will be those established in these final results of this review; (2) for previously reviewed or investigated companies not participating in this review, the cash deposit rate will continue to be the company-specific rate published for the most recently completed section of this proceeding; (3) if the exporter is not a firm covered in this review, a prior review, or the original less-than-fair-value (LTFV) investigation, but the manufacturer is, the cash deposit rate will be the rate established for the most recently completed segment of this proceeding for the manufacturer of the merchandise; and (4) the cash deposit rate for all other manufacturers or exporters will continue to be 4.37 percent, the all-others rate made effective by the LTFV investigation.⁴ These cash deposit requirements, when imposed, shall remain in effect until further notice.

⁴ See Amended Order, 75 FR at 56985.

Notification to Importers

This notice serves as a final reminder to importers of their responsibility, under 19 CFR 351.402(f), to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

The Department is issuing and publishing these final results of administrative review in accordance with sections 751(a)(1) and 777(i)(1) of the Act.

Dated: August 9, 2013.
Paul Piquado
Assistant Secretary for Import Administration.

[FR Doc. 2013-20013 Filed 8-16-13; 8:45 am]

BILLING CODE 3510-DS-P